DEPARTMENT OF HEALTH AND HUMAN SERVICES

Centers for Disease Control and Prevention (CDC)

Board of Scientific Counselors, Coordinating Office for Terrorism Preparedness and Emergency Response (BSC, COTPER)

In accordance with section 10(a)(2) of the Federal Advisory Committee Act (Pub. L. 92-463), CDC announces the following meeting of the aforementioned committee:

Times and Dates: 12 p.m.-5:15 p.m., August 13, 2009; 9 a.m.-3:30 p.m., August 14, 2009.

Place: CDC, 1600 Clifton Road, NE., Global Communications Center, Building 19, Auditorium B3, Atlanta, Georgia 30333.

Status: Open to the public for observation and comment, limited only by the space available. The meeting room accommodates approximately 50 people. Visitors to the CDC campus must be processed in accordance with established Federal policies and procedures and should pre-register for the meeting as described in Additional Information for visitors. Public comment periods are planned for both meeting days.

Purpose: This Board is charged with advising the Secretary of HHS and Director of CDC concerning strategies and goals for the programs and research within COTPER, monitoring the strategic direction and focus of the Divisions, and conducting peer review of scientific programs. For additional information about the COTPER BSC, please visit: http://emergency.cdc.gov/cotper/science/counselors.asp.

Matters To Be Discussed: A program response to the Board's recommendations from the external peer review of the fiscal allocation process; a briefing on the findings of the external peer review of COTPER's Division of Select Agents and Toxins; status updates on other external peer reviews of COTPER programs; updates from COTPER activities and programs; and a discussion of external peer review topics for fiscal year 2010. Agenda items are subject to change as priorities dictate.

Additional Information For Visitors: All visitors are required to present a valid form of picture identification issued by a State, Federal or international government. To expedite the security clearance process for visitors to the CDC Roybal campus, all visitors must pre-register by submitting the following information by e-mail or phone (see Contact Person for More Information) no later than 12 noon (EDT) on Monday, July 27, 2009:

• Full Name,

• Organizational Affiliation,

• Complete Mailing Address,

• Citizenship, and

• Phone Number or E-mail Address.

For foreign nationals or non-U.S. citizens, pre-approval is required. Please contact the BSC Coordinator (see Contact Person for More Information) in advance of the posted pre-registration deadline for additional security requirements that must be met.

Contact Person for More Information: Matthew Jennings, BSC Coordinator, COTPER, CDC, 1600 Clifton Rd., NE., Mailstop D-44, Atlanta, GA 30333, Telephone: (404) 639-7357; Facsimile: (404) 639-7977; E-mail: COTPER.BSC.Questions@cdc.gov.

The Director, Management Analysis and Service Office, has been delegated the authority to sign Federal Register notices pertaining to announcements of meetings and other committee management activities for both CDC and Agency for Toxic Substances and Disease Registry.

Dated: July 7, 2009.
Elaine L. Baker,
Director, Management Analysis and Service Office, Centers for Disease Control and Prevention.

[FR Doc. E9-16771 Filed 7-14-09; 8:45 am]

BILLING CODE 4163-18-P